DEPARTMENT OF AGRICULTURE

Submission for OMB Review; Comment Request

March 24, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Disaster Food Stamp Program.

OMB Control Number: 0584-0336.

Summary of Collection: Section 5(h) of the Food Stamp Act of 1977 and the Disaster Relief Act of 1974 authorizes the Secretary of Agriculture to establish temporary emergency standards of eligibility for victims of a disaster if the commercial channels of food distribution have been disrupted, and if such channels of food distribution have been restored. Section 11(e)(14) of the Food Stamp Act of 1977, authorizes the Secretary to require State agencies to develop a plan of operation that includes, but is not limited to, procedures for informing the public about the Disaster Food Stamp Program (DFSP) and how to apply for its benefits, coordination with Federal and private disaster relief agencies and local government officials, application procedures to reduce hardship and inconvenience and deter fraud, and instruct caseworkers in procedures for implementing and operating the DFSP.

Need and Use of the Information: This information collection concerns information obtain from State welfare agencies seeking to operate DFSP's. A State agency's request to operate a DFSP must contain the following information: Procedures for prompt assessment of the geographical limits of the areas in need of disaster food stamp assistance; household responsibilities; a description of post-disaster reviews; procedures to inform both the general public and households already certified under the disaster program if the operation of the DFSP is extended; procedures to issue food stamps during a disaster; and procedures to coordinate with other State agencies to obtain additional workers and other personnel if needed to supplement the State agency's regular staff.

Description of Respondents: State, Local, or Tribal Government; Individuals or households.

Number of Respondents: 8.

Frequency of Responses: Reporting: On occasion.

Total Burden Hours: 80.

Ruth Brown,
Departmental Information Collection Clearance Officer.

[FR Doc. E6-4615 Filed 3-29-06; 8:45 am]

BILLING CODE 3410-30-P